DEPARTMENT OF DEFENSE

Defense Acquisition Regulations System

48 CFR Parts 201, 207, 215, and 237

RIN 0750-AG28

Defense Federal Acquisition Regulation Supplement; Peer Reviews of Contracts (DFARS Case 2008-D035)

AGENCY: Defense Acquisition Regulations System, Department of Defense (DoD).

ACTION: Final rule.

SUMMARY: DoD has issued a final rule amending the Defense Federal Acquisition Regulation Supplement (DFARS) to address requirements for Peer Reviews of DoD solicitations and contracts. Such reviews will promote quality and consistency in DoD contracting.

DATES: Effective Date: July 29, 2009.

FOR FURTHER INFORMATION CONTACT: Ms. Cassandra Freeman, Defense Acquisition Regulations System, OUSD (AT&L) DPAP (DARS), IMD 3D139, 3062 Defense Pentagon, Washington, DC 20301-3062. Telephone 703-602-8383; facsimile 703-602-7887. Please cite DFARS Case 2008-D035.

SUPPLEMENTARY INFORMATION:

A. Background

The objective of Peer Reviews of solicitations and contracts is to ensure consistent policy implementation, to improve the quality of contracting processes, and to facilitate cross-sharing of best practices and lessons learned throughout DoD. This final rule specifies that the Office of the Director, Defense Procurement and Acquisition Policy, will organize teams of reviewers and will facilitate Peer Reviews for all solicitations valued at $1 billion or more and for all contracts for services valued at $1 billion or more. In addition, the rule requires the military departments, defense agencies, and DoD field activities to establish procedures for pre-award Peer Review of solicitations valued at less than $1 billion, and post-award Peer Review of contracts for services valued at less than $1 billion.

This rule was not subject to Office of Management and Budget review under Executive Order 12866, dated September 30, 1993.

B. Regulatory Flexibility Act

This rule will not have a significant cost or administrative impact on contractors or offerors, or a significant effect beyond the internal operating procedures of DoD. Therefore, publication for public comment under 41 U.S.C. 418b is not required. However, DoD will consider comments from small entities concerning the affected DFARS subparts in accordance with 5 U.S.C. 610. Such comments should cite DFARS Case 2008-D035.

C. Paperwork Reduction Act

The Paperwork Reduction Act does not apply, because the rule does not impose any information collection requirements that require the approval of the Office of Management and Budget under 44 U.S.C. 3501, et seq.

List of Subjects in 48 CFR Parts 201, 207, 215, and 237

Government procurement.

Michele P. Peterson,
Editor, Defense Acquisition Regulations System.

Therefore, 48 CFR Parts 201, 207, 215, and 237 are amended as follows:

1. The authority citation for 48 CFR Parts 201, 207, 215, and 237 continues to read as follows:

Authority: 41 U.S.C. 421 and 48 CFR Chapter 1.

PART 201—FEDERAL ACQUISITION REGULATIONS SYSTEM

2. Section 201.170 is added to read as follows:

201.170 Peer Reviews.

(a) Acquisitions valued at $1 billion or more.

(1) The Office of the Director, Defense Procurement and Acquisition Policy, will organize teams of reviewers and facilitate Peer Reviews for solicitations and contracts valued at $1 billion or more, as follows:

(i) Pre-award Peer Reviews will be conducted for all solicitations valued at $1 billion or more (including options).

(ii) Post-award Peer Reviews will be conducted for all contracts for services valued at $1 billion or more (including options).

(iii) Reviews will be conducted using the procedures at PGI 201.170.

(2) To facilitate planning for Peer Reviews, the military departments, defense agencies, and DoD field activities shall provide a rolling annual forecast of acquisitions with an anticipated value of $1 billion or more (including options) at the end of each quarter (i.e., March 31; June 30; September 30; December 31), to the Deputy Director, Defense Procurement and Acquisition Policy (Contract Policy and International Contracting), 3060 Defense Pentagon, Washington, DC 20301-3060.

(b) Acquisitions valued at less than $1 billion. The military departments, defense agencies, and DoD field activities shall establish procedures for—

(1) Pre-award Peer Reviews of solicitations valued at less than $1 billion; and

(2) Post-award Peer Reviews of contracts for services valued at less than $1 billion.

PART 207—ACQUISITION PLANNING

3. Section 207.104 is added to read as follows:

207.104 General procedures.

In developing an acquisition plan, agency officials shall take into account the requirement for scheduling and conducting a Peer Review in accordance with 201.170.

PART 215—CONTRACTING BY NEGOTIATION

4. Section 215.270 is added to read as follows:

215.270 Peer Reviews.

Agency officials shall conduct Peer Reviews in accordance with 201.170.

PART 237—SERVICE CONTRACTING

5. Section 237.102 is amended by adding paragraph (e) to read as follows:

237.102 Policy.

* * * * *

(e) Program officials shall obtain assistance from contracting officials through the Peer Review process at 201.170.

[FR Doc. E9-17953 Filed 7-28-09; 8:45 am]

BILLING CODE 5001-08-P